NATIONAL ARCHIVES AND RECORDS ADMINISTRATION

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before June 10, 2010. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting the Life Cycle Management Division (NWML) using one of the following means:

Mail: NARA (NWML), 8601 Adelphi Road, College Park, MD 20740-6001.

E-mail: request.schedule@nara.gov.

Fax: 301-837-3698.

Requesters must cite the control number, which appears in parentheses after the name of the agency which submitted the schedule, and must provide a mailing address. Those who desire appraisal reports should so indicate in their request.

FOR FURTHER INFORMATION CONTACT: Laurence Brewer, Director, Life Cycle Management Division (NWML), National Archives and Records Administration, 8601 Adelphi Road, College Park, MD 20740-6001. Telephone: 301-837-1539. E-mail: records.mgt@nara.gov.

SUPPLEMENTARY INFORMATION: Each year Federal agencies create billions of records on paper, film, magnetic tape, and other media. To control this accumulation, agency records managers prepare schedules proposing retention periods for records and submit these schedules for NARA's approval, using the Standard Form (SF) 115, Request for Records Disposition Authority. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending:

1. Department of the Army, Agency-wide (N1-AU-09-10, 4 items, 4 temporary items). Policy and procedures documents, reports, evaluations, requests for information and other information relating to the Total Army Sponsorship Program.

2. Department of Defense, Defense Security Service (N1-446-09-6, 3 items, 3 temporary items). Master files of an electronic information system used for the secure transmission of fingerprints and demographic information submitted by contractors concerning applicants for security clearances.

3. Department of Education, Federal Student Aid (N1-441-09-22, 1 item, 1 temporary item). Master files of an electronic information system used to manage student loans and grants. Files include such information as name of student, type and amount of loan, loan period, and balance.

4. Department of Education, Federal Student Aid (N1-441-09-23, 9 items, 9 temporary items). Master files of electronic information systems used to process student aid applications and payments. Records relate to such matters as the application and selection process, disbursements of funds, and other financial transactions.

5. Department of Education, Office for Civil Rights (N1-441-08-6, 5 items, 4 temporary items). Case files relating to investigating complaints and reviewing educational programs in regard to compliance with laws prohibiting discrimination on the basis of race, gender, age, and other considerations. Included is an electronic case management system. Proposed for permanent retention are records documenting historically significant education discrimination cases.

6. Department of Education, Office of Postsecondary Education (N1-441-09-8, 1 item, 1 temporary item). Records relating to programs that assist educational institutions in providing housing and other facilities for students. Records include information that relates to such matters as applications, disbursements of funds, and the planning and construction of facilities.

7. Department of Health and Human Services, Centers for Medicare & Medicaid Services (N1-440-09-12, 1 item, 1 temporary item). Master files of an electronic information system used to account for and manage reimbursements provided to Plan Sponsors for Medicare-eligible retirees.

8. Department of Homeland Security, Directorate for Management (N1-563-09-12, 8 items, 8 temporary items). Records relating to the oversight and management of grant programs. Included are such records as grant program announcements, grant guidance reference files, grant monitoring review case files, customer service correspondence, debarment and suspension case files, and grant program approval case files.

9. Department of Justice, Bureau of Prisons (N1-129-09-32, 1 item, 1 temporary item). Master files of an electronic information system that contains information on inmate work assignments.

10. Department of Justice, Executive Office for U.S. Attorneys (N1-60-10-9, 2 items, 2 temporary items). Inputs and master files of an electronic information system which contains information used in connection with notifying employees in the event of an emergency.

11. Department of Justice, Federal Bureau of Investigation (N1-65-09-5, 4 items, 3 temporary items). Records relating to agency equal employment opportunity programs, including administrative files and records of special emphasis programs that focus attention on specific employee groups. Proposed for permanent retention are case files relating to historically significant discrimination complaint cases.

12. Department of the Treasury, Internal Revenue Service (N1-58-09-103, 2 items, 2 temporary items). Master files and system documentation of an electronic information system used to automate the tax examination process and provide taxpayers with easily understood audit reports.

13. Department of the Treasury, Internal Revenue Service (N1-58-09-104, 2 items, 2 temporary items). Applications for tax credits for investments in manufacturing equipment used to produce clean energy.

14. Department of Veterans Affairs, Veterans Health Administration (N1-15-10-4, 5 items, 5 temporary items). Records that relate to providing prosthetics and sensory aids to military veterans.

15. National Capital Planning Commission, Agency-wide (N1-328-10-1, 6 items, 5 temporary items). Records relating to the agency Web site (including Web content), litigation files, and a geographic information system used for municipal planning and management that is no longer being created. Proposed for permanent retention are electronic records contained in an automated system that contains information concerning projects submitted to the agency for approval.

Dated: May 4, 2010.
Michael J. Kurtz,
Assistant Archivist for Records Services—Washington, DC.

[FR Doc. 2010-11029 Filed 5-10-10; 8:45 am]

BILLING CODE 7515-01-P